DEPARTMENT OF HEALTH AND HUMAN SERVICES

[Document Identifier: OS-0990-0344 Extension]

Agency Information Collection Request. 60-Day Public Comment Request

AGENCY: Office of the Secretary, HHS

In compliance with the requirement of section 3506(c)(2)(A) of the Paperwork Reduction Act of 1995, the Office of the Secretary (OS), Department of Health and Human Services, is publishing the following summary of an information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be must be received within 60-days and directed to the OS Paperwork Clearance Officer at the above e-mail address.

Proposed Project: HAvBED Assessment for 2009-H1N1 Influenza Serious Illness, OMB No. 0990-0344 Extension HHS Office of the Assistant Secretary for Preparedness and Response (ASPR), Office of Preparedness and Emergency Operations (OPEO).

Abstract: The Office of the Secretary (OS) is requesting clearance by the Office of Management and Budget to extend data collection regarding the status of the health care system. ASPR/OPEO received expedited clearance for data collection during the 2009-H1N1 pandemic. Since September 2009 HHS has collected data on bed availability, health care system resource needs such as ventilators and health care system stress such as implementation of surge strategies. These data have proven useful to ASPR in fulfilling its responsibilities for preparedness and response.

Pursuant to section 2811 of the PHS Act, the ASPR serves as the principal advisor to the Secretary on all matters related to Federal public health and medical preparedness and response for public health emergencies. In addition to other tasks, the ASPR coordinates with State, local, and tribal public health officials and healthcare systems to ensure effective integration of Federal public health and medical assets during an emergency. ASPR's National Hospital Preparedness Program (HPP) awards cooperative agreements to each of the 50 states, the Pacific Islands, and U.S. territories (for a total of 62 awardees) to improve surge capacity and enhance community and hospital preparedness for public health emergencies. These 62 awardees are responsible for enhancing the preparedness of the nation's nearly 6,000 hospitals. These awards are authorized under section 391C-2 of the Public Health Service (PHS) Act.

For this data collection the situation will dictate how often the data will be collected using the Web-based interface known as HAvBED. For a large scale emergency data will be collected nationally from all 62 HPP awardees to include all 6,000 hospitals in HAvBED system. For smaller scale events data collection will be targeted to individual states or regions. Data may also be gathered during exercises. Notifications for data collection are sent to the affected states through the HPP program staff. The data gathered from the hospitals are reported to the HHS Secretary's Operations Center to inform situational awareness and national preparedness. During the 2009-H1N1 response nation-wide data were collected weekly for 3 months and then twice monthly for 3 months. Since the HAvBED data collection is activated in response to emergencies it is impossible to predict the exact frequency of data collection. It is anticipated that the minimal data request will be a national data call of all awardees and hospitals once per month throughout the year. If the seriousness of the stress on the hospitals increases up to daily reporting may be requested.

Depending on the nature of the existing systems at the hospitals, the data may be obtained manually or readily available electronically through existing systems. States would have their own procedures for training staff on how to use their existing systems, so there would not be an additional training burden for learning those systems. For manual data collection using the HAvBED system, personnel have already been trained for the 2009-H1N1 data collection. Only newly hired personnel would require training. The system is easy to use and intuitive. There is a user guide that provides information to help people quickly understand how to use the system. Based on the experience of the system administrator in working with users, training time to learn the HAvBED data entry procedures is no more than one hour. On average it takes 40 minutes of explanation and 20 minutes of hands on practice with the training site.

The actual data collection time for the hospitals is approximately 1 hour and the states will spend approximately 3 hours compiling the information from all of the hospitals in their state/territory. For automated systems the time would be less. The frequency of data collection will depend on the number of emergencies and exercises throughout the year. It is not possible to predict the exact number, but it is estimated that data collection will range from 12 per year (once per month) to a maximum of 102 times per year (daily for 3 months, twice monthly for 3 months and monthly for 6 months). The cost model assumes the maximal annual estimated burden, but is likely to be much less than the estimate.

Annual Estimated Burden Hours
Type of respondent | Number of respondents | No. of responses/ respondent | Average burden hours per response | Total burden hours
Hospital staff (training) | 6,000 | 1 | 1 | 6,000
Hospital staff (data collection) | 6,000 | 102 | 1 | 612,000
State/Territory Preparedness staff (training) | 62 | 1 | 1 | 62
State/Territory Preparedness staff (data collection) | 62 | 306 | 3 | 56,916
Total |  | 408 |  | 674,978

Seleda Perryman,
Office of the Secretary, Paperwork Reduction Act Reports Clearance Officer.

[FR Doc. 2010-2124 Filed 2-1-10; 8:45 am]

BILLING CODE 4150-37-P